DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: SAMHSA SOAR Web-Based Data Form (OMB No. 0930-0329)—REVISION

In 2009 the Substance Abuse and Mental Health Services Administration (SAMHSA) of the U.S. Department of Health and Human Services created a Technical Assistance Center to assist in the implementation of the SSI/SSDI Outreach Access and Recovery (SOAR) effort in all states. The primary objective of SOAR is to improve the allowance rate for Social Security Administration (SSA) disability benefits for people who are experiencing or at risk of homelessness, and who have serious mental illnesses.

During the SOAR training, the importance of keeping track of SSI/SSDI applications through the process is stressed. In response to requests from states implementing SOAR, the Technical Assistance Center under SAMHSA's direction developed a web-based data form that case managers can use to track the progress of submitted applications, including decisions received from SSA either on initial application or on appeal. This password-protected web-based data form is hosted on the SOAR Web site (https://soartrack.prainc.com). Use of this form is completely voluntary.

In addition, data from Part I of the web-based form can be compiled into reports on decision results and the use of SOAR core components, such as the SSA-1696 Appointment of Representative, which allows SSA to communicate directly with the case manager assisting with the application. These reports will be reviewed by agency directors, SOAR state-level leads, and the national SOAR Technical Assistance Center to quantify the success of the effort overall and to identify areas where additional technical assistance is needed. There are no proposed changes to Part I of this form.

The proposed additions to create a new Part II of this form include qualitative (open-ended) questions on annual SOAR accomplishments, identified challenges and collaborations. There are 8 new questions that represent new initiatives, challenges, funding sources, steering committees and training. There is also an additional open-ended question on collaborations with 8 potentially applicable areas (e.g. Veterans, justice-involved persons, hospitals) that could require a response. The addition of Part II is for annual reporting by state and local leads only.

The estimated response burden is as follows:

Form name | Number of respondents | Responses per respondent | Total responses | Hours per response | Total hour burden | Hourly wage cost | Total hour cost ($)
SOAR Data Form (Part I) | 700 | 3 | 2,100 | .25 | 525 | $20 | $10,500
Annual Report Questions (Part II) | 75 | 1 | 75 | 1 | 37.50 | 20 | 750
TOTAL | 775 |  | 2,175 |  | 562.50 |  | 11,250

Send comments to Summer King, SAMHSA Reports Clearance Officer, Room 15E-57B, 5600 Fishers Lane, Rockville, MD 20857 OR email her a copy at summer.king@samhsa.hhs.gov. Written comments should be received by February 17, 2017.

Summer King,
Statistician.

[FR Doc. 2016-30431 Filed 12-16-16; 8:45 am]

BILLING CODE 4162-20-P